DEPARTMENT OF COMMERCE

National Oceanic and Atmospheric Administration

[I.D. 100603G]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene a public meeting of the Special Coral Scientific and Statistical Committee (SSC) on October 27 and 28, 2003.

DATES: The Council's Coral SSC will convene at 1:30 p.m. on Monday, October 27, 2003 and conclude by 5 p.m. on Tuesday, October 28, 2003.

ADDRESSES: The meetings will be held at the Hilton Tampa Airport Westshore Hotel, 2225 Lois Avenue, Tampa, FL; telephone: 813-877-6688.

Council address: Gulf of Mexico Fishery Management Council, 3018 U.S. Highway 301 North, Suite 1000, Tampa, FL 33619.

FOR FURTHER INFORMATION CONTACT: Dr. Richard Leard, Senior Fishery Biologist, Gulf of Mexico Fishery Management Council; telephone: 813-228-2815.

SUPPLEMENTARY INFORMATION: The SSC will convene to discuss the current status and trends with coral reef resources in the Gulf of Mexico, and issues that concern the health of coral reefs. Some of the issues to be discussed include: diseases, oceanographic phenomena, global climate change, human interactions, and marine reserves. The Coral SSC will also consider funding priorities for future coral research projects and develop any recommendations for the Council.

Although non-emergency issues not contained in the agenda may come before the Coral SSC for discussion, in accordance with the Magnuson-Stevens Fishery Conservation and Management Act (MSFCMA), those issues may not be the subject of formal action during this meeting. The Coral SSC actions will be restricted to those issues specifically identified in this notice and any issues arising after publication of this notice that require emergency action under Section 305 (c) of the MSFCMA, provided the public has been notified of the Council's intent to take final action to address the emergency.

Copies of the agendas of these meetings and the stock assessments can be obtained by calling the Council office at 813-228-2815 (toll-free 888-833-1844).

Special Accommodations

This meeting is physically accessible to people with disabilities. Requests for sign language interpretation or other auxiliary aids should be directed to Anne Alford at the Council (see ADDRESSES) by October 20, 2003.

Dated: October 7, 2003.
Peter H. Fricke,
Acting Director, Office of Sustainable Fisheries, National Marine Fisheries Service.

[FR Doc. 03-25820 Filed 10-9-03; 8:45 am]

BILLING CODE 3510-22-S